DEPARTMENT OF HEALTH AND HUMAN SERVICES

Administration for Children and Families

[OMB #: 0970-0307]

Submission for Office of Management and Budget Review; State Court Improvement Program

AGENCY: Children's Bureau, Administration for Children and Families, U.S. Department of Health and Human Services.

ACTION: Request for public comments.

SUMMARY: The Administration for Children and Families (ACF) is requesting a 3-year extension of the State Court Improvement Program (SCIP) Strategic Plan Template and Annual Self-Assessment (Office of Management and Budget (OMB) #: 0970-0307, expiration February 28, 2026). There are minor updates to the self-assessment to reflect new legislation as well as to support technical assistance. The collections are necessary to continue operating the program in compliance with congressional reauthorization.

DATES: Comments due December 26, 2025.

ADDRESSES: The public may view and comment on this information collection request at: https://www.reginfo.gov/public/do/PRAViewICR?ref_nbr=202511-0970-007. You can also obtain copies of the proposed collection of information by emailing opreinfocollection@acf.hhs.gov. Identify all emailed requests by the title of the information collection.

SUPPLEMENTARY INFORMATION:

Description: The SCIP provides federal funding to state courts to assess their child welfare and judicial practices and develop and implement improvement plans. States use funds in a variety of ways, including improving legal representation and hearing quality, enhancing the engagement of families in court proceedings, and supporting child welfare and court partnerships. The proposed collection is a continuation of the current collection and comprised of two instruments: A strategic plan and self-assessment. The self-assessment reflects what the state has done in the prior year focusing on its progress and status within the change management cycle. The strategic plan looks forward to those interventions and actions the state plans to undertake to address needs or buttress strengths they have discovered in their assessment activities. These two instruments serve as an application for annual SCIP funding as well as a source for data which are shared back with SCIP grantees to support their community learning and peer connections, to inform technical assistance, and support any reporting to Congress and others. Regarding updates to the self-assessment and strategic plan, a minor change was made early in 2025 to the self-assessment in response to Executive Orders, amounting to one optional topical box and a few drop-down categories being removed. Additionally, the following minor changes are proposed to the currently approved version of the self-assessment. These do not impact estimated time to respond.

• Brief questions were added on IV-E funding, self-assessment point of contact or publishing information, and additional collaborative partners.

• Dropdown categories have been added to reduce burden and improve data where `other' was too often selected.

• Some questions about technical assistance states participated in were removed because alternative data sources were found that reduced burden.

No changes are proposed to the strategic plan.

The next application will be due June 30, 2026.

Respondents: We anticipate the highest state court of every state, the District of Columbia, Puerto Rico, and the U.S. Virgin Islands to respond. All 53 jurisdictions currently participate in the program. One response from each jurisdiction is anticipated.

Annual Burden Estimates
Instrument | Total number of respondents | Total number of responses per respondent | Average burden hours per response | Total burden hours | Annual burden hours
Annual Self-Assessment | 53 | 1 | 40 | 6360 | 2,120
Strategic Plan | 53 | * .20 | 52 | 1653.6 | 551.2
Estimated Total Annual Burden Hours |  |  |  |  | 2,671.20
* The full Strategic Plan is completed every 5 years. In years when the Strategic Plan is not completed, respondents may spend minimal time updating relevant sections of the Strategic Plan. This is accounted for in the estimate for the Annual Self-Assessment.

Authority: 42 U.S.C. 629h.

Mary C. Jones,
ACF/OPRE Certifying Officer.

[FR Doc. 2025-20962 Filed 11-24-25; 8:45 am]

BILLING CODE 4184-29-P